OFFICE OF PERSONNEL MANAGEMENT

Comment Request for OMB Review of a New Information Collection: General Population Rental Equivalency Survey

AGENCY: Office of Personnel Management.

ACTION: Notice.

SUMMARY: In accordance with the Paperwork Reduction Act of 1995 (Pub. L. 104-13, May 22, 1995), this notice announces that the Office of Personnel Management (OPM) intends to submit to the Office of Management and Budget a request for a review of a new information collection. OPM is seeking comments on its plan to conduct a General Population Rental Equivalency Survey (GPRES) on a one-time basis to collect information on actual and estimated rents and rental characteristics from homeowners and renters in Alaska, Hawaii, Guam, Puerto Rico, the U.S. Virgin Islands, and the Washington, DC, area. OPM will use this information to see whether (1) differences between homeowner rent estimates and rental rates for comparable housing vary among the nonforeign cost-of-living allowance (COLA) areas and the Washington, DC, area; (2) rents vary among areas based on how long renters live in their rental units; and (3) rental data collected in GPRES differ on average from rental data that OPM collects in the COLA surveys. OPM regulations, adopted pursuant to the stipulation of settlement in Caraballo v. United States, No. 1997-0027 (D.V.I.), August 17, 2000, require the survey of rents and rental equivalence (homeowner estimates of the rental value of their homes).

OPM will collect information from approximately 5,000 to 8,000 respondents and estimates the total time per respondent at 8 minutes, for a total burden of 670 to 1070 hours. To determine the number of respondents, OPM used a common statistical sampling formula and the standard deviations from a previous Federal employee housing survey and from COLA rental surveys at different confidence levels. At the recommendation of Westat, a contractor advising OPM, OPM anticipates using computer assisted telephone interviews (CATI) for this survey. Westat estimates, based on its experience and the experience of other surveyors, that each CATI will take on average approximately 8 minutes.

Comments are particularly invited on whether (1) this collection of information is necessary for the proper performance of OPM functions, (2) it will have practical utility, (3) our estimate of the public burden of this collection of information is accurate and based on valid assumptions and methodology, and (4) there are ways in which we can minimize respondent burden of the collection of information through the use of appropriate technological collection techniques or other forms of information technology.

For copies of this proposal, contact Mary Beth Smith-Toomey on (202) 606-8358, fax (202) 418-3251, or e-mail mbtoomey@opm.gov. Please include a mailing address with your request.

DATES: Submit comments on or before March 2, 2004.

ADDRESSES: Send or deliver comments to Donald J. Winstead, Deputy Associate Director for Pay and Performance Policy, Office of Personnel Management, Room 7H31, 1900 E Street, NW., Washington, DC 20415-8200; fax (202) 606-4264, or e-mail: cola@opm.gov.

FOR FURTHER INFORMATION CONTACT: Donald L. Paquin, (202) 606-2838.

U.S. Office of Personnel Management.
Kay Coles James,
Director.

[FR Doc. 03-32257 Filed 12-31-03; 8:45 am]

BILLING CODE 6325-39-P